DEPARTMENT OF AGRICULTURE

Forest Service

Davis Land Exchange; White River National Forest; Colorado

AGENCY: Forest Service, USDA.

ACTION: Notice; availability of the Davis Land Exchange Environmental Assessment.

SUMMARY: An Environmental Assessment (EA) for the Davis Land Exchange on the Aspen Ranger District of the White River National Forest is available for public review and comment.

DATES: Comments must be postmarked by May 3, 2000.

ADDRESSES: Send written comments to Davis Land Exchange Project Manager, White River National Forest, Aspen Ranger District, 806 West Hallam Street, Aspen, CO 81611. All comments, including names and addresses when provided, are placed in the record and are available for public inspection and copying at the Aspen Ranger District office.

FOR FURTHER INFORMATION CONTACT: Requests for copies of the Environmental Assessment and questions about this project should be addressed to Allan Grimshaw, Aspen Ranger District, 806 West Hallam Street, Aspen CO, 81611, 970-925-3445.

SUPPLEMENTARY INFORMATION: The United States has entered into a settlement agreement which proposes the use of a land exchange to settle a title claim against the United States. The exchange would result in conveyance of 7.32 acres of Federal land for approximately 61 acres of non-Federal land. This environmental assessment has been prepared to evaluate the effects of such a land exchange. It also evaluates the effects of one alternative: Requesting the court release the United States from the settlement agreement and allow the litigation to continue. Comments will be considered in development of a decision.

Dated: March 17, 2000.
James R. Furnish,
Deputy Chief for National Forest System.

[FR Doc. 00-8053 Filed 3-31-00; 8:45 am]

BILLING CODE 3410-11-M